OFFICE OF SPECIAL COUNSEL

Senior Executive Service Performance Review Board

AGENCY: U.S. Office of Special Counsel (OSC).

ACTION: Notice.

SUMMARY: In accordance with 5 U.S.C. 4314(c)(4), the U.S. Office of Special Counsel (OSC) announces the appointment of members to the agency's Senior Executive Service (SES) Performance Review Board (PRB). The PRB is responsible for reviewing and evaluating the initial appraisal of a senior executive's performance by the supervisor, along with any response by the senior executive, and making recommendations to the appointing authority regarding the performance of the senior executive. This notice supersedes all prior notices of the PRB membership.

DATES: These appointments are effective upon publication of this notice.

ADDRESSES: U.S. Office of Special Counsel, 1730 M Street NW, Suite 218, Washington, DC 20036.

FOR FURTHER INFORMATION CONTACT: Jessica McDaniels, Chief Human Capital Officer, U.S. Office of Special Counsel, at (202) 804-7038 or HCO@osc.gov.

SUPPLEMENTARY INFORMATION: Pursuant to 5 U.S.C. 4314(c), each agency must establish one or more SES Performance Review Boards. The PRB shall review and evaluate the initial performance appraisal of a senior executive, any response to the appraisal, and make recommendations to the appointing authority regarding the executive's performance.

The following individuals have been appointed to serve as members of the OSC SES Performance Review Board:

• Charles Baldis, Senior Counsel and Designee of the Acting Special Counsel

• Karen Gorman, Principal Deputy Special Counsel

• Bruce Fong, Associate Special Counsel

• Karl Kammann, Chief Operating Officer

Dated: July 16, 2025.
Barbara Wheeler Jones,
Chief, Case Review Division, U.S. Office of Special Counsel.

[FR Doc. 2025-13587 Filed 7-18-25; 8:45 am]

BILLING CODE P